DEPARTMENT OF ENERGY

Federal Energy Regulatory Commission

[Docket No. RP02-499-001]

Equitrans, L.P.; Notice of Compliance Filing

October 11, 2002.

Take notice that on October 9, 2002, Equitrans, L.P. (Equitrans) tendered for filing as part of its FERC Gas Tariff, Original Volume No. 1, the following revised tariff sheets to become effective on October 1, 2002:

Second Revised Sheet No. 225

Original Sheet No. 225A

Second Revised Sheet No. 276

Original Sheet No. 276A

Original Sheet No. 276B

Second Revised Sheet No. 277

Second Revised Sheet No. 278

Substitute Fourth Revised Sheet No. 308

Substitute First Revised Sheet No. 309

Equitrans states that the purpose of this tariff filing is to comply with the Commission's Letter Order, issued in Docket No. RP02-499-000, on September 27, 2002, where the Commission accepted the Equitrans tariff sheets to comply with Commission Order 587-O, subject to its filing certain modifications to include and delete standards in accordance with Version 1.5 of the North American Energy Standards Board.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's web site under the “e-Filing” link.

Linwood A. Watson, Jr.,
Acting Secretary.

[FR Doc. 02-26492 Filed 10-17-02; 8:45 am]

BILLING CODE 6717-01-P